DEPARTMENT OF HOMELAND SECURITY

Federal Emergency Management Agency

[Docket ID FEMA-2021-0002; Internal Agency Docket No. FEMA-B-2128]

Proposed Flood Hazard Determinations

AGENCY: Federal Emergency Management Agency, Department of Homeland Security.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before August 5, 2021.

ADDRESSES: The Preliminary FIRM, and where applicable, the FIS report for each community are available for inspection at both the online location https://hazards.fema.gov/femaportal/prelimdownload and the respective Community Map Repository address listed in the tables below. Additionally, the current effective FIRM and FIS report for each community are accessible online through the FEMA Map Service Center at https://msc.fema.gov for comparison.

You may submit comments, identified by Docket No. FEMA-B-2128, to Rick Sacbibit, Chief, Engineering Services Branch, Federal Insurance and Mitigation Administration, FEMA, 400 C Street SW, Washington, DC 20472, (202) 646-7659, or (email) patrick.sacbibit@fema.dhs.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at https://www.floodsrp.org/pdfs/srp_overview.pdf.

The watersheds and/or communities affected are listed in the tables below. The Preliminary FIRM, and where applicable, FIS report for each community are available for inspection at both the online location https://hazards.fema.gov/femaportal/prelimdownload and the respective Community Map Repository address listed in the tables. For communities with multiple ongoing Preliminary studies, the studies can be identified by the unique project number and Preliminary FIRM date listed in the tables. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

Community | Community map repository address
Mackinac County, Michigan (All Jurisdictions)
Project: 16-05-2958S Preliminary Date: September 30, 2020
City of Mackinac Island | City Hall, 7358 Market Street, Mackinac Island, MI 49757.
City of St. Ignace | City Hall, 396 North State Street, St. Ignace, MI 49781.
Sault Saint Marie Tribe of the Chippewa Indians | Sault Tribe Administration Building, 523 Ashmun Street, Sault Sainte Marie, MI 49783.
Township of Bois Blanc | Bois Blanc Township Hall, 431 Sioux Avenue, Pointe Aux Pins, MI 49775.
Township of Brevort | Brevort Township Community Center, North 4020 Church Road, Moran, MI 49760.
Township of Clark | Clark Township Hall, 207 North Blindline Road, Cedarville, MI 49719.
Township of Garfield | Garfield Township Hall, North 6760 State Highway M-117, Engadine, MI 49827.
Township of Hendricks | Hendricks Township Hall, North 5115 Hiawatha Trail, Naubinway, MI 49762.
Township of Hudson | Hudson Township Hall, North 7961 Church Street, Naubinway, MI 49762.
Township of Marquette | Marquette Township Hall, 7177 East James Street, Pickford, MI 49774.
Township of Moran | Moran Township Hall, 1358 West US 2, St. Ignace, MI 49781.
Township of Newton | Newton Township Hall, North 6164 South Gould City Road, Gould City, MI 49838.
Township of St. Ignace | Township Hall, North 4298 Gorman Road, St. Ignace, MI 49781.
Blue Earth County, Minnesota and Incorporated Areas
Project: 07-05-0439S Preliminary Dates: December 09, 2009, April 20, 2011, September 12, 2018 and August 28, 2020
City of Lake Crystal | City Hall, 100 East Robinson Street, Lake Crystal, MN 56055.
City of Mankato | Intergovernmental Center, 10 Civic Center Plaza, Mankato, MN 56001.
City of Minnesota Lake | City Office, 103 Main Street North, Minnesota Lake, MN 56068.
City of Skyline | Skyline City Hall, 164 South Skyline Drive, Mankato, MN 56001.
City of St. Clair | City Office, 304 Main Street West, St. Clair, MN 56080.
City of Vernon Center | City Hall, 101 Oak Street North, Vernon Center, MN 56090.
Unincorporated Areas of Blue Earth County | Blue Earth County Environmental Department, 410 South 5th Street, Mankato, MN 56001.
Pope County, Minnesota and Incorporated Areas
Project: 18-05-0003S Preliminary Date: May 29, 2020
City of Cyrus | City Hall, 126 West Main Street, Cyrus, MN 56323.
City of Glenwood | City Hall, 100 17th Avenue Northwest, Glenwood, MN 56334.
City of Long Beach | City Hall, 23924 North Lakeshore Drive, Glenwood, MN 56334.
City of Starbuck | City Hall, 307 East 5th Street, Starbuck, MN 56381.
Unincorporated Areas of Pope County | Pope County Courthouse, 130 East Minnesota Avenue, Glenwood, MN 56334.

[FR Doc. 2021-09630 Filed 5-6-21; 8:45 am]

BILLING CODE 9110-12-P